DEPARTMENT OF COMMERCE

Foreign-Trade Zones Board

[B-9-2025]

Foreign-Trade Zone (FTZ) 25, Notification of Proposed Production Activity; Philip Stein Holding, Inc.; (Watches); Pembroke Park, Florida

Broward County, grantee of FTZ 25, submitted a notification of proposed production activity to the FTZ Board (the Board) on behalf of Philip Stein Holding, Inc. (Philip Stein) for Philip Stein's facility in Pembroke Park, Florida within FTZ 25. The notification conforming to the requirements of the Board's regulations (15 CFR 400.22) was received on February 12, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: men's stainless steel watches with calf leather bands; men's stainless steel watches with silk bands; men's stainless steel watches with apple peel leather bands; men's stainless steel watches with recycled polyethylene terephthalate bands; men's stainless steel watches with stainless steel bands; men's stainless steel watches with silicone bands; men's stainless steel watches with rubber bands; ladies stainless steel watches with calf leather bands; ladies stainless steel watches with silk bands; ladies stainless steel watches with apple peel leather bands; ladies stainless steel watches with recycled polyethylene terephthalate band; ladies stainless steel watches with stainless steel bands; ladies stainless steel watches with silicone band; ladies stainless steel watches with rubber bands; chronograph stainless steel watches with calf leather bands; chronograph stainless steel watches with apple peel leather bands; chronograph stainless steel watches with stainless steel bands; chronograph stainless steel watches with silicone bands; chronograph stainless steel watches with rubber bands; and imitation jewelry bracelets (duty rate ranges from duty-free to 8%, $.40-.44 per piece).

The proposed foreign-status materials/components include: men's stainless steel watches with no strap; ladies stainless steel watches with no strap, chronograph stainless steel watches with no strap; calf leather bands; silk bands; microfiber bands; apple peel leather bands; pashima bands; recycled polyethylene terephthalate bands; stainless steel bands; silicone bands; rubber bands; and imitation jewelry bracelets (duty rate ranges from duty-free to 8%, $.40-.44 per piece). The request indicates that certain materials/components are subject to duties under Section 1702(a)(1)(B) of the International Emergency Economic Powers Act (section 1702) and section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is April 7, 2025.

A copy of the notification will be available for public inspection in the “Online FTZ Information System” section of the Board's website.

For further information, contact Kolade Osho at Kolade.Osho@trade.gov.

Dated: February 18, 2025.
Elizabeth Whiteman,
Executive Secretary.

[FR Doc. 2025-02969 Filed 2-21-25; 8:45 am]

BILLING CODE 3510-DS-P